NATIONAL TRANSPORTATION SAFETY BOARD

Sunshine Act Meeting; Agenda

Time and Date: 9:30 a.m., Tuesday, June 30, 2009.

Place: NTSB Conference Center, 429 L'Enfant Plaza SW., Washington, DC 20594.

Status: The one item is open to the public.

Matter To Be Considered:

8116 | Aircraft Accident Summary Report—Ground Fire Aboard Cargo Airplane, ABX Air Flight 1611, Boeing 767-200, N799AX, San Francisco, California, June 28, 2008.

News Media Contact: Telephone: (202) 314-6100.

The press and public may enter the NTSB Conference Center one hour prior to the meeting for set up and seating.

Individuals requesting specific accommodations should contact Rochelle Hall at (202) 314-6305 by Friday, June 26, 2009.

The public may view the meeting via a live or archived webcast by accessing a link under “News & Events” on the NTSB home page at http://www.ntsb.gov.

FOR MORE INFORMATION CONTACT: Vicky D'Onofrio, (202) 314-6410.

Dated: June 12, 2009.
Vicky D'Onofrio,
Federal Register Liaison Officer.

[FR Doc. E9-14372 Filed 6-15-09; 4:15 pm]

BILLING CODE 7533-01-P